NATIONAL COUNCIL ON DISABILITY

International Watch Advisory Committee Meetings (Conference Calls)

AGENCY: National Council on Disability (NCD).

Time and Dates: 12 noon, eastern time.

November 3, 2005

January 5, 2006

March 2, 2006

May 4, 2006

July 6, 2006

September 7, 2006

Place: National Council on Disability, 1331 F Street, NW., Suite 850, Washington, DC.

Status: All parts of these conference calls will be open to the public. Those interested in participating in conference calls should contact the appropriate staff member listed below. Due to limited resources, only a few telephone lines will be available for each conference call.

Agendas: Roll call, announcements, overview of accomplishments, planning, reports, new business, adjournment.

FOR FURTHER INFORMATION CONTACT: Joan M. Durocher, Senior Attorney Advisor and Designated Federal Official, National Council on Disability, 1331 F Street NW., Suite 850, Washington, DC 20004; 202-272-2004 (voice), 202-272-2074 (TTY), 202-272-2022 (fax), jdurocher@ncd.gov (e-mail).

International Watch Advisory Committee Mission: The purpose of NCD's International Watch is to share information on international disability issues and to advise NCD on developing policy proposals that will advocate for a foreign policy that is consistent with the values and goals of the Americans with Disabilities Act.

Dated: August 11, 2005.
Mark S. Quigley,
Director of Communications and Acting Executive Director.

[FR Doc. 05-16471 Filed 8-18-05; 8:45 am]

BILLING CODE 6820-MA-P